DEPARTMENT OF ENERGY

Office of Environmental Management; Environmental Management Advisory Board

AGENCY: Department of Energy.

ACTION: Notice of renewal.

Pursuant to Section 14(a)(2)(A) of the Federal Advisory Committee Act (Pub. L. No. 92-463), and in accordance with Title 41 of the Code of Federal Regulations, section 102-3.65(a), and following consultation with the Committee Management Secretariat, General Services Administration, notice is hereby given that the Environmental Management Advisory Board will be renewed for a two-year period beginning January 23, 2008.

The Board provides the Assistant Secretary for Environmental Management (EM) with information and strategic advice on a broad range of corporate issues affecting the EM program. These corporate issues include, but are not limited to, project management and oversight activities; cost/benefit analyses; program performance; contracts and acquisition strategies; human capital management; and site end-states activities. Recommendations to the Department of Energy (DOE) on the programmatic resolution of numerous difficult issues will help achieve DOE's objective of the safe and efficient cleanup of its contaminated sites.

Additionally, the renewal of the Environmental Management Advisory Board has been determined to be essential to conduct DOE's business and to be in the public interest in connection with the performance of duties imposed on DOE by law and agreement. The Board will operate in accordance with the provisions of FACA, and rules and regulations issued in implementation of that Act.

Further information regarding this Advisory Board may be obtained from Ms. Terri Lamb, Designated Federal Officer, at (202) 586-9007.

Issued in Washington, DC on January 23, 2008.
Carol A. Matthews,
Acting Committee Management Officer.

[FR Doc. E8-1640 Filed 1-29-08; 8:45 am]

BILLING CODE 6450-01-P